DEPARTMENT OF DEFENSE

Department of the Navy

[DoD-2006-OS-0099]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on June 30, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: May 24, 2006.
L.M. Bynum,
OSD Federal Register Liaison Officer, Department of Defense.

N06110-1

System name:

Physical Readiness Information Management System (PRIMS) (September 8, 2003, 68 FR 52911).

Changes

* * * * *

System location:

Delete entry and replace with “Records are located at Navy Installations. Millington Detachment (N251), 5720 Integrity Drive, Millington, TN 38055-6000. Local command fitness leaders and assistant command fitness leaders at Navy installations/bases have access to the information about command personnel assigned to their Unit Identification Code (UIC).”

* * * * *

System manager(s) and address:

Delete entry and replace with “Commander, Navy Installations, Millington Det (N251), 5720 Integrity Drive, Millington, TN 38055-6000 and/or the local command fitness leader/assistant command fitness leader.”

Notification procedure:

Delete and replace with “All active duty and active Reserve Navy members with internet capabilities who are seeking to determine whether this system of records contains information about themselves can access this record system online at https://prims.bol.navy.mil by using their Social Security Number and the BUPERS ONLINE (BOL) password.

Former service members who are seeking to determine whether this system of records contains information about themselves should address written inquiries to the Commander, Navy Installations, Millington Det (N251), 5720 Integrity Drive, Millington, TN 38055-6000 or to the command where they were last assigned.

Requests must be signed and individuals should include their full name, Social Security Number, name or unit identification code of last command assigned, and dates of last assignment.”

Record access procedures:

Delete entry and replace with: “All active duty and active Reserve Navy members with Internet capabilities seeking access to records about themselves in this system of records may do so at https://prims.bol.navy.mil by using their Social Security Number and the BUPERS ONLINE (BOL) password.

Former service members seeking access to records about themselves in this system of records may receive a copy of the records by making written inquiries to the Commander, Navy Installations, Millington Det (N251), 5720 Integrity Drive, Millington, TN 38055-6000 or to the command where they were last assigned.

Requests must be signed and individuals should include their full name, Social Security Number, name or unit identification code of last command assigned and dates of last assignment.

* * * * *

N06110-1

System name:

Physical Readiness Information Management System (PRIMS).

System location:

Records are located at Navy Installations. Millington Detachment (N251), 5720 Integrity Drive, Millington, TN 38055-6000. Local command fitness leaders and assistant command fitness leaders at Navy installations/bases have access to the information about command personnel assigned to their Unit Identification Code (UIC).

Categories of individuals covered by the system:

Navy active duty and reserve personnel.

Categories of records in the system:

Physical Readiness Information Management System (PRIMS) consists of command information, authorization information, member personnel data (such as name, Social Security Number, Unit Identification Code, Department, Division, gender, service, rank, date of birth, Navy Enlisted Code/Designator, physical date, date reported to command, medical waivers, body composition assessment (such as weight, height, neck, abdomen, waist, hips, body fat)) and Physical Readiness Test data, Fitness Enhancement Program data, and Ship Shape data.

Authority for maintenance of the system:

10 U.S.C. 5013, Secretary of the Navy; OPNAVINST 6110.1G, Physical Readiness Program; and E.O. 9397 (SSN).

Purpose(s):

To provide a standardized Navy database to monitor and track the progress of members' Physical Fitness Assessment (PFA) data and to identify, screen, train, educate, counsel, monitor and rehabilitate members who do not meet the Physical Fitness Assessment standards.

Routine uses of records maintained in the system including categories of users and the propose of such users:

In addition to those disclosures generally permitted under 5 U.S.C. 552a(b) of the Privacy Act, these records or information contained therein may specifically be disclosed outside the DoD as a routine use pursuant to 5 U.S.C. 552a(b)(3) as follows:

To qualified personnel for the purpose of conducting scientific research, management audits or program evaluation, but such personnel may not identify, directly or indirectly, any individual patient in any report of such research, audit or evaluation or otherwise disclose member identities in any manner.

The DoD ‘Blanket Routine Uses’ that appear at the beginning of the Navy's compilation of systems notices apply to this system.

Policies and practices for storing, retrieving, accessing, retaining, and disposing of records in the system:

Storage:

Records are maintained on electronic storage media. Paper records may be printed from the database.

Retrievability:

Name of member and Social Security Number.

Safeguards:

Computer facilities are located in restricted areas accessible only to authorized persons who are properly screened, cleared and trained. Access to records is controlled by the use of need-to-know “roles” in the application. Paper records downloaded from the database are marked “For official Use Only.”

Retention and disposal:

Records are maintained for a period of five years and then destroyed.

System manager(s) and address:

Commander, Navy Installations, Millington Det (N251), 5720 Integrity Drive, Millington, TN 38055-6000 and/or the local command fitness leader/assistant command fitness leader.

Notification procedure:

All active duty and active Reserve Navy members with internet capabilities who are seeking to determine whether this system of records contains information about themselves can access this record system online at https://prims.bol.navy.mil by using their Social Security Number and the BUPERS ONLINE (BOL) password.

Former service members who are seeking to determine whether this system of records contains information about themselves should address written inquiries to the Commander, Navy Installations, Millington Det (N251), 5720 Integrity Drive, Millington, TN 38055-6000 or to the command where they were last assigned.

Requests must be signed and individuals should include their full name, Social Security Number, name or unit identification code of last command assigned, and dates of last assignment.

Records access procedures:

All active duty and active Reserve Navy members with Internet capabilities seeking access to records about themselves in this system of records may do so at https://prims.bol.navy.mil by using their Social Security Number and the BUPERS ONLINE (BOL) password.

Former service members seeking access to records about themselves in this system of records may receive a copy of the records by making written inquiries to the Commander, Navy Installations, Millington Det (N251), 5720 Integrity Drive, Millington, TN 38055-6000 or to the command where they were last assigned.

Requests must be signed and individuals should include their full name, Social Security Number, name or unit identification code of last command assigned and dates of last assignment.

Contesting record procedures:

The Navy's rules for accessing records and for contesting contents and appealing initial agency determinations are published in the Secretary of the Navy Instruction 5211.5; 32 CFR part 701; or may be obtained from the system manager.

Record source categories:

Individual, command personnel, and/or medical personnel.

Exemptions claimed for the system:

None.

[FR Doc. 06-4962 Filed 5-30-06; 8:45 am]

BILLING CODE 5001-06-M